DEPARTMENT OF THE INTERIOR

Bureau of Indian Affairs

Renewal of Agency Information Collection for Navajo Partitioned Lands Grazing Permits

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information for Navajo Partitioned Lands Grazing Permits authorized by OMB Control Number 1076-0162. This information collection expires May 31, 2013.

DATES: Submit comments on or before May 7, 2013.

ADDRESSES: You may submit comments on the information collection to David Edington, Office of Trust Services, 1849 C Street NW., Mail Stop 4637, Washington, DC 20240; facsimile: (202) 219-0006; email: David.Edington@bia.gov.

FOR FURTHER INFORMATION CONTACT: David Edington, (202) 513-0886.

SUPPLEMENTARY INFORMATION:

I. Abstract

BIA is seeking renewal of the approval for the information collection conducted under 25 CFR part 161, implementing the Navajo-Hopi Indian Relocation Amendments Act of 1980, 94 Stat. 929, and the Federal court decisions of Healing v. Jones, 174 F. Supp.211 (D Ariz. 1959) (Healing I), Healing v. Jones, 210 F. Supp. 126 (D. Ariz. 1962), aff'd 363 U.S. 758 (1963) (Healing II), Hopi Tribe v. Watt, 530 F. Supp. 1217 (D. Ariz. 1982), and Hopi Tribe v. Watt, 719 F.2d 314 (9th Cir. 1983).

This information collection allows BIA to receive the information necessary to determine whether an applicant to obtain, modify, or assign a grazing permit on Navajo Partitioned Lands is eligible and complies with all applicable grazing permit requirements.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0162.

Title: Navajo Partitioned Lands Grazing Permits, 25 CFR 161.

Brief Description of Collection: Submission of information is required for Navajo Nation representatives, members, and authorized tribal organizations to obtain, modify, or assign a grazing permit on Navajo partitioned lands. Response is required to obtain a benefit.

Type of Review: Extension without change of currently approved collection.

Respondents: Tribes, tribal organizations, and individual Indians.

Number of Respondents: 750.

Estimated Number of Responses: 1,500.

Estimated Time per Response: On average, 2 hours.

Estimated Total Annual Hour Burden: 3,000 hours.

Dated: March 4, 2013.
John Ashley,
Acting Assistant Director for Information Resources.

[FR Doc. 2013-05492 Filed 3-7-13; 8:45 am]

BILLING CODE 4310-4J-P